DEPARTMENT OF THE INTERIOR

Bureau of Indian Affairs

Notice of Acceptance of Retrocession of Jurisdiction for the Tulalip Tribes, Washington

AGENCY: Bureau of Indian Affairs.

ACTION: Notice.

SUMMARY: Pursuant to the authority vested in the Secretary of the Interior by Executive Order No. 11435 of November 21, 1968 (33 FR 17339) and redelegated to the Assistant Secretary—Indian Affairs by 209 DM 8, I hereby accept as of 12:01 PST, November 21, 2000 retrocession to the United States of partial criminal jurisdiction over the Tulalip Tribes, which was acquired by the state of Washington, pursuant to Public Law 83-280, 67 Stat. 588, 18 U.S.C. 1162, 28 U.S.C. 1360.

The retrocession herein accepted was offered by the Proclamation by the Governor of the state of Washington on January 14, 1997, and transmitted to the Secretary on February 18, 2000. By Resolution No. 96-0167 dated November 2, 1996, the Tulalip Tribes requested that the state of Washington retrocede partial criminal jurisdiction to the tribes.

FOR FURTHER INFORMATION CONTACT: Mr. Peter Maybee, Executive Officer, Bureau of Indian Affairs, Office of Law Enforcement Services, 1849 C Street, NW, Mailstop 2607-MIB, Washington, DC 20240, telephone nubmer (202) 208-5758.

Dated: November 29, 2000.
Kevin Gover,
Assistant Secretary—Indian Affairs.

[FR Doc. 00-30956 Filed 12-04-00; 8:45 am]

BILLING CODE 4310-02-M